INTERNATIONAL TRADE COMMISSION

[USITC SE-04-012]

Government in the Sunshine Act Meeting Notice

AGENCY: United States International Trade Commission.

TIME AND DATE: May 27, 2004 at 11 a.m.

Place: Room 101, 500 E Street SW., Washington, DC 20436, Telephone: (202) 205-2000.

Status: Open to the public.

Matters to be Considered: 1. Agenda for future meetings: None.

2. Minutes.

3. Ratification List.

4. Inv. No. AA1921-167 (Second Review) (Pressure Sensitive Plastic Tape from Italy)—briefing and vote. (The Commission is currently scheduled to transmit its determination and Commissioners' opinions to the Secretary of Commerce on or before June 7, 2004.)

5. Inv. No. AA1921-188 (Second Review) (Prestressed Concrete Steel Wire Strand from Japan)—briefing and vote. (The Commission is currently scheduled to transmit its determination and Commissioners' opinions to the Secretary of Commerce on or before June 7, 2004.)

6. Outstanding action jackets: None.

In accordance with Commission policy, subject matter listed above, not disposed of at the scheduled meeting, may be carried over to the agenda of the following meeting.

By order of the Commission.
Issued: May 11, 2004.
Marilyn R. Abbott,
Secretary to the Commission.

[FR Doc. 04-11060 Filed 5-12-04; 9:27 am]

BILLING CODE 7020-02-P